DEPARTMENT OF ENERGY

Southwestern Power Administration

Integrated System Power Rates

AGENCY: Southwestern Power Administration, DOE.

ACTION: Notice of public review and comment.

SUMMARY: The Administrator, Southwestern Power Administration (Southwestern), has prepared Current and Revised FY 2002 Power Repayment Studies which show the need for an increase in annual revenues to meet cost recovery criteria. Such increased revenues are needed primarily to cover increased investments and replacements in hydroelectric generating and high-voltage transmission facilities, increased operation and maintenance expenses and increased transmission service expenses. The Administrator has developed proposed Integrated System rates, which are supported by a rate design study, to recover the required revenues. Beginning October 1, 2002, and thereafter, the proposed rates would increase annual system revenues approximately 5.6 percent from $109,463,500 to $115,602,003, which includes an increase in the purchased power adder.

DATES: The consultation and comment period will begin on the date of publication of this Federal Register notice and will end August 19, 2002.

1. Public Information Forum—June 6, 2002, 1 p.m.,Tulsa, OK.

2. Public Comment Forum—July 10, 2002, 1 p.m.,Tulsa, OK.

ADDRESSES: The forums will be held in Southwestern's offices, Room 1402, Williams Center Tower I, One West Third Street, Tulsa, Oklahoma 74103. Ten copies of the written comments together with a diskette in MS Word or Corel Word Perfect, regarding the proposed rate change should be submitted to the Administrator, Southwestern Power Administration, U.S. Department of Energy, One West Third Street, Tulsa, Oklahoma, 74103.

FOR FURTHER INFORMATION CONTACT: Mr. Forrest E. Reeves, Assistant Administrator, Office of Corporate Operations, Southwestern Power Administration, U.S. Department of Energy, One West Third Street, Tulsa, Oklahoma 74103, (918) 595-6696, reeves@swpa.gov.

SUPPLEMENTARY INFORMATION: The U.S. Department of Energy was created by an Act of the U.S. Congress, Department of Energy Organization Act, Pub. L. 95-91, dated August 4, 1977, and Southwestern's power marketing activities were transferred from the Department of Interior to the Department of Energy, effective October 1, 1977. Guidelines for preparation of power repayment studies are included in DOE Order No. RA 6120.2, Power Marketing Administration Financial Reporting. Procedures for Public Participation in Power and Transmission Rate Adjustments of the Power Marketing Administrations are found at title 10, part 903, subpart A of the Code of Federal Regulations (10 CFR 903).

Southwestern markets power from 24 multi-purpose reservoir projects with hydroelectric power facilities constructed and operated by the U.S. Army Corps of Engineers. These projects are located in the states of Arkansas, Missouri, Oklahoma, and Texas. Southwestern's marketing area includes these States plus Kansas and Louisiana. The costs associated with the hydropower facilities of 22 of the 24 projects are repaid via revenues received under the Integrated System rates, as are Southwestern's transmission facilities which consist of 1,380 miles of high-voltage transmission lines, 24 substations, and 46 microwave and VHF radio sites. Costs associated with the Sam Rayburn and Robert D. Willis Dams, two Corps of Engineers projects that are isolated hydraulically, electrically, and financially from the Integrated System are repaid under separate rate schedules and are not addressed in this notice.

Following Department of Energy guidelines, the Administrator, Southwestern, prepared a Current Power Repayment study using existing system rates. The Study indicates that Southwestern's legal requirement to repay the investment in power generating and transmission facilities for power and energy marketed by Southwestern will not be met without an increase in revenues. The need for increased revenues is primarily due to increased investments and replacements in hydroelectric generating and high-voltage transmission facilities, increased operation and maintenance expenses and increased transmission services expenses. The Revised Power Repayment Study shows that additional annual revenues of $5,542,676, (a 5.1 percent increase), beginning October 1, 2002, are needed to satisfy repayment criteria.

A Rate Design Study has also been completed which allocates the revenue requirement to the various system rate schedules for recovery, and provides for transmission service rates in conformance with FERC Order No. 888 (Promoting Wholesale Competition Through Open Access Non-Discriminatory Transmission Services by Public Utilities). The proposed new rates would increase estimated annual revenues from $109,463,500 to $115,602,003 and would satisfy the present financial criteria for repayment of the project and transmission system investments within the required number of years. As indicated in the Integrated System Rate Design Study, this revenue would be developed primarily through increases in the charges for generation and transmission services, to include some of the ancillary services for deliveries of both Federal and non-Federal power and associated energy from the transmission system of Southwestern. There are also increased charges for transformation services for deliveries at voltages of 69 kV (kilovolt) or less.

A second component of the Integrated System rates for power and energy, the purchased power adder, produces revenues which are segregated to cover the cost of power purchased to meet contractual obligations. The purchased power adder is established to reflect what is expected to be needed by Southwestern to meet purchased power needs on an average annual basis. It has been increased from the existing rate to reflect the projected power costs based on present market rates. The Administrator's authority to adjust the purchased power adder annually at his/her discretion, plus or minus $0.0011 per kilowatthour (kWh), will remain the same.

Below is a general comparison of the existing and proposed system rates:

| Existing rates | Proposed rates
GENERATION RATES | Rate Schedule P-98D (System Peaking) | Rate Schedule P-02 (System Peaking)
Capacity:
Grid or 138-161kV | $2.56/kW/Mo + up to $0.0146/kW/Mo (ancillary services) for generation within control area: Regulation Ancillary Services + $0.04/kW/Mo for deliveries within control area | $2.72/kW/Mo + up to $0.0112/kW/Mo (ancillary services) for generation within control area: Regulation Ancillary Services + $0.06/kW/Mo for deliveries within control area
69 kV | Transformation Service + $0.25/kW/Mo (applied to usage, not reservation) | Transformation Service + $0.28/kW/Mo (applied to usage, not reservation)
Energy | $0.0048/kWh of Peaking Energy and Supplemental Peaking Energy + a Purchased Power Adder of $0.0011 of Peaking Energy (± 0.0011 annually at Administrator's discretion). | $0.0050/kWh ofr Peaking Energy and Supplemental Peaking Energy + a Purchase Power Adder or $0.0025 of Peaking Energy (± 0.0011 annually at Administrator's discretion).
TRANSMISSION RATES | Rate Schedule NFTS-98D (Transmission) | Rate Schedule NFTS-02 (Transmission)
Capacity-Firm Reservation with energy)
Grid of 138-161 kV
| $0.69/W/Mo | $0.73/kW/Mo
| $0.173/kW/Week | $0.183/kW/Week
| $0.0314/kW/Day | $0.0332/kW/Day
| + Required Ancillary Services: | + Required Ancillary Services:
| $0.06/kw/Mo, or | $0.08/kW/Mo, or
| $0.016/kW/Week, or | $0.021/kW/Week, or
| $0.0028/kW/Day | $0.0037/kW/Day
| + Reserve Ancillary Services: | + Reserve Ancillary Services:
| up to: $0.00146/kW/Mo, or | up to: $0.00112/kW/Mo, or
| $0.00366/kW/Week, or | $0.0028/kW/Week, or
| $0.00066kW/Day, | $0.00050/kW/Day,
| for generation in control area | for generation in control area
| + Regulation & Freq Response | + Regulation & Freq Response
| Ancillary Service | Ancillary Service
| up to: $0.04/kW/Mo, or | up to: $0.06/kW/Mo, or
69 kV and below | $0.010/kW/Week, or | $0.015/kW/Week, or
| $0.0018/kW/Day, for deliveries within control area | $0.0027/kW/Day, for deliveries within control area
Capacity (Non-firm with energy):
| Transformation Service | Transformation Service
| + 40.25/kW/Mo | + $0.28/KW/Mo
| no separate charge (applied on usage, not reservation). Weekly and daily rates not applied. | no separate charge (applied on usage, not reservation). Weekly and daily rates not applied.
Network Service | no separate capacity charge
| $0.55/kW/Mo, or | no separate capacity charge
| $0.138/kW/Week, or | 80% of firm monthly charge
| $0.0251/kW/Day, or | divided by 4 for weekly rate,
| $0.00157/kWh, delivered | divided by 22 for daily rate and divided by 352 for hourly rate.
| $0.72/kW/Mo of Network Load | $0.73/kW/Mo of Network Load
| + Required Ancillary Services: | + Required Ancillary Services:
| $0.06/kW/Mo, or | $0.08/kW/Mo, or
| + Reserve Ancillary Services: | + Reserve Ancillary Services:
| up to: $0.00146/kW/Mo, | up to: $0.00112/kW/Mo, for
| for generation in control area | generation in control area +
| + Regulation & Freq Response
| Rate Schedule EE-98 (Excess Energy) | Rate Schedule EE-02 (Excess Energy)
Energy | $0.0048/Wh + | $0.0050/kWh +
| $0.0018/kWh (transmission) + | $0.0021/kWh (transmission) +
| Required ancillary services | Required ancillary services
| $0.00018/kWh + | $0.00023/kWh +
| $0.00018/kWh (anciullary service) | $0.00004/kWh (ancillary service)
| for generation in control area + | for generation in control area +
| $0.00011/kWh (ancillary service) | .000017/kWh (ancillary service) +
| + for deliveries in control area: | for deliveries in control area:

Opportunity is presented for Southwestern customers and other interested parties to receive copies of the Integrated System Studies. If you desire a copy of the Integrated System Power Repayment Studies and Rate Design Study Data Package, submit your request to Mr. Forrest E. Reeves, Assistant Administrator, Office of Corporate Operations, Southwestern Power Administration, One West Third, Tulsa, OK 74103 (918) 595-6696.

A Public Information Forum is scheduled to be held on June 6, 2002, to explain to customers and the public the proposed rates and supporting studies. The proceeding will be transcribed. The Forum will be conducted by a chairman who will be responsible for orderly procedure. Questions concerning the rates, studies, and information presented at the Forum will be answered, to the extent possible, at the Forum. Questions not answered at the Forum will be answered in writing, except that questions involving voluminous data contained in Southwestern's records may best be answered by consultation and review of pertinent records at Southwestern's offices.

Persons interested in attending the Public Information Forum should indicate in writing by letter or facsimile transmission (918-595-6656) by May 31, 2002, their intent to appear at such Forum. If no one so indicates their intent to attend, no such Forum will be held.

A Public Comment Forum is scheduled to be held on July 10, 2002, at which interested persons may submit written comments or make oral presentations of their views and comments related to the rate proposal. The proceeding will be transcribed. The Forum will be conducted by a chairman who will be responsible for orderly procedure. Southwestern's representatives will be present, and they and the chairman may ask questions of the speakers. Persons interested in attending the Public Comment Forum should indicate in writing by letter or facsimile transmission (918-595-6656) by July 3, 2002, their intent to appear at such Forum. If no one so indicates their intent to attend, no such Forum will be held. Persons interested in speaking at the Forum should submit a request to Mr. Forrest E. Reeves, Assistant Administrator, Southwestern, at least five (5) days prior to the Forum so that a list of speakers can be developed. The chairman may allow others to speak if time permits.

A transcript of each Forum will be made. Copies of the transcripts may be obtained from the transcribing service. Copies of all documents introduced will be available from Southwestern upon request for a fee.

Following review of the oral and written comments and the information gathered in the course of the proceedings, the Administrator will submit the amended Integrated System Rate Proposal, Power Repayment Studies, and Rate Design Study in support of the proposed rates to the Secretary of Energy for confirmation and approval on an interim basis, and subsequently to the Federal Energy Regulatory Commission (FERC) for confirmation and approval on a final basis. The FERC will allow the public an opportunity to provide written comments on the proposed rate increase before making a final decision.

Issued in Tulsa, Oklahoma, this 6th day of May 2002.
Michael A. Deihl,
Administrator.

[FR Doc. 02-12683 Filed 5-20-02; 8:45 am]

BILLING CODE 6450-01-P